DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct a new information collection, the 2013 Current Agricultural Industrial Reports (CAIR).

DATES: Comments on this notice must be received by July 1, 2013 to be assured of consideration.

ADDRESSES: You may submit comments, identified by docket number 0535-NEW, by any of the following methods:

• Email: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building,1400 Independence Avenue SW., Washington, DC 20250-2024.

FOR FURTHER INFORMATION CONTACT: Joseph T. Reilly, Associate Administrator, National Agricultural Statistics Service, U.S. Department of Agriculture, (202) 720-4333.

SUPPLEMENTARY INFORMATION: Title: Current Agricultural Industrial Reports (CAIR).

OMB Control Number: 0535—NEW.

Type of Request: Intent to Seek Approval to Conduct a New Information Collection.

Abstract: The Current Industrial Reports (CIR) program (0607-0476) was conducted by the U.S. Census Bureau previously. It was discontinued on April 30, 2012. The previous approval was for 47 different surveys. These previous industrial reports included a wide range of surveys that included commodities from the following commodity groups: agriculture, aerospace, appliances, pharmaceuticals, textiles and many more. NASS is requesting the authority to reinstate eight data collection instruments previously used by the Census Bureau. Data from these instruments will be used to generate four separate publications. The data from these surveys will supply data users with important information on the utilization of many of the crops, livestock, and poultry produced in the United States. NASS currently collects crop data on acres planted and harvested, production, price and stocks for these crops (grains, oilseeds, cotton, nuts, olives, etc.), along with livestock data on the number of animals and poultry produced, slaughtered, prices, and the amount of meat kept in cold storage. This new data series will provide data users with vital information on how much of these commodities were processed into fuels, cooking oils, flour, fabric, etc. These data are needed to provide a more complete picture of the importance of agriculture to the American population.

In order to develop a complete and comprehensive list of operations, NASS will also conduct an Operation Profile at the beginning of the survey process. This profile will be used to identify operations that do not meet the criteria to be included in this group of surveys also to serve as a training tool. If warranted the profile can be repeated on an annual basis, or used selectively to train new respondents. The training that will be provided is designed to help insure consistent, accurate, and complete data reported on a monthly basis. The remaining eight different data collections will be conducted monthly of all known operations. These surveys will be conducted as a part of the Census of Agriculture and are mandatory as defined under Title 7, Sec. 2204(g).

Primary users of these data include government and regulatory agencies, business firms, trade associations, and private research and consulting organizations. The USDA World Agricultural Outlook Board (WAOB) uses the data in many of their indexes. The Bureau of Economic Analysis (BEA) and the Bureau of Labor Statistics (BLS) use the data in the estimation of components of gross domestic product (GDP) and the estimate of output for productivity analysis, respectively. Many government agencies, such as the Department of Agriculture, Food and Drug Administration, Bureau of Economic Analysis, and International Trade Administration use the data for industrial analysis, projections, and monitoring import penetration.

NASS proposes to make several changes to the previously approved questionnaires.

M311H—Animal and Vegetable Fats and Oils (Warehouse Stocks) | • Remove tung, caster, vegetable foots, sperm, fish oil, glycerin, tall and fatty acids oils.
| • Add olive oil.
M311L—Fats and Oils | • Remove inedible tallow and yellow grease direct shipments to livestock feed mixers.
M311M—Animal and Vegetable Fats and Oils (Consumption and Stocks) | • Aggregate consumed in soap, paint, animal feeds, methyl esters, resins, and lubricants to a classification “Total Inedible Use.” This will be done for all oils in the questionnaire.
| • Remove tung, fish, and tall oils.
M311N—Animal and Vegetable Fats and Oils (Production, Consumption, and Stocks) | • Aggregate consumed in soap, paint, animal feeds, methyl esters, resins, and lubricants to a classification “Total Inedible Use.” This will be done for all oils in the questionnaire.
M311C—Corn (Wet and Dry Mill Producers of Ethanol) | • Create separate questionnaires for dry mill producers and wet mill producers.
| • Add feed grade corn oil, industrial grade corn oil, HFCS 42, HFCS 55, glucose & dextrose, and steepwater (liquor) to a wet mill producer questionnaire.
M311J—Oilseeds, Beans, and Nuts (Primary Processors) | • Remove lecithin produced, stocks of beans, and stocks of crude oil.
| • Remove seeds received at mill, hulls produced, linters produced (first, second cut, and mill run), stocks of crude oil, hulls, linters (first, second cut, and mill run).
| • Remove flaxseed seeds crushed, stocks of seed, and stocks of crude oil.
| • Remove nuts crushed, crude oil produced, cake and meal produced, stocks, crude oil, cake and meal stocks for peanuts, tung nut, copra, and caster beans.
| • Add olives crushed for oil and crude oil produced.
M313P—Cotton, Manmade Fiber, Staple, and Raw Linters (Consumption and Stocks, and Spindle Activity) | • Remove staple length classification for American Upland domestic raw cotton consumed.
| • Remove consumption of foreign upland cotton cleared by the Customs Bureau.
| • Remove foreign cotton awaiting opening of quota or held in a customs bonded warehouse for export stocks.
| • Remove nylon staple consumption and stocks.
| • Remove acrylic staple consumption and stocks.
| • Remove all spindle numbers and hours of operation.
MQ311A—Flour Milling Products (Production, Stocks, and Capacity) | • Break out “all wheat including durum” flour milling questions for the following classes: hard red winter, hard red spring, soft red winter, white, and durum.
M311C—Corn (Wet and Dry Mill Producers of Ethanol) | • Create separate questionnaires for dry mill producers and wet mill producers.
| • Add feed grade corn oil, industrial grade corn oil, HFCS 42, HFCS 55, glucose & dextrose, and steepwater (liquor) to a wet mill producer questionnaire.

The National Agricultural Statistics Service will use the information collected only for statistical purposes and will publish the data only as tabulated totals.

Authority: The census of agriculture and subsequent follow-on censuses are required by law under the “Census of Agriculture Act of 1997,” 7 U.S.C. 2204(g). Individually identifiable data collected under this authority are governed by Section 1770 of the Food Security Act of 1985 as amended, 7 U.S.C. 2276, which requires USDA to afford strict confidentiality to non-aggregated data provided by respondents. This Notice is submitted in accordance with the Paperwork Reduction Act of 1995, Pub. L. 104-13 and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 10-85 minutes per response. Publicity materials and instruction sheets will account for about 30 minutes of additional burden per respondent, annually. Respondents who refuse to complete the survey will be allotted 2 minutes of burden per attempt to collect the data.

Respondents: The target population will consist of managers of processing facilities that produce oils and fats from animals, grains, oilseeds, nuts, tree fruits or vegetables; or operations that are involved in the storing, rendering, or marketing of these products. Managers of ethanol plants, cotton gins, and flour mills will also be included in the target population for this group of surveys.

Estimated Number of Respondents: 1,650.

Estimated Total Annual Burden on Respondents: 14,000 hours.

Copies of this information collection and related instructions can be obtained without charge from NASS Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, April 12, 2013.
Joseph T. Reilly,
Associate Administrator.

[FR Doc. 2013-10393 Filed 5-1-13; 8:45 am]

BILLING CODE 3410-20-P